DEPARTMENT OF ENERGY

Federal Energy Regulatory Commission

[Docket No. CP09-46-000]

National Fuel Gas Supply Corporation; Notice of Request Under Blanket Authorization

January 22, 2009.

Take notice that on January 14, 2009, National Fuel Gas Supply Corporation (National Fuel), 6363 Main Street, Williamsville, New York 14221, filed in Docket No. CP09-46-000, a prior notice request pursuant to sections 157.205 and 157.208 of the Federal Energy Regulatory Commission's regulations under the Natural Gas Act for authorization to increase the certificated Maximum Allowable Operating Pressure (MAOP) for Line K-M2 and a portion of Line K, originating and terminating in Erie County, New York, and to thereafter operate these lines up to and including the higher MAOP, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, National Fuel proposes to uprate the MAOP of Lines K and K-M2 from the current MAOP of 220 psig to the requested MAOP of 320 psig. National Fuel states that the uprating of the MAOP of the lines will improve system reliability and flexibility. National Fuel estimates the cost of the project to be $200,000.

Any questions regarding the application should be directed to David W. Reitz, Deputy, General Counsel, National Fuel Gas supply Corporation, 6363 Main Street, Williamsville, New York 14221, at (716) 857-7949.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the Internet in lieu of paper. See 18 CFR 385.2001(a)(1)(iii) and the instructions on the Commission's Web site (http://www.ferc.gov) under the “e-Filing” link.

Kimberly D. Bose,
Secretary.

[FR Doc. E9-1913 Filed 1-28-09; 8:45 am]

BILLING CODE 6717-01-P